FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 3808F.

Name: Kana D. Castleberry.

Address: 1010 South 312th Street, Suite 333, Federal Way, WA 98003.

Date Revoked: February 15, 2010.

Reason: Failed to maintain a valid bond.

License Number: 004319F.

Name: Lesley Schoepf Cabell.

Address: 922 White Marlin Drive, Charleston, SC 29412.

Date Revoked: February 7, 2010.

Reason: Surrendered license voluntarily.

License Number: 4562NF.

Name: Above & Beyond International Freight Forwarders Inc.

Address: One Cross Island Plaza, Room 226, Rosedale, NY 11422.

Date Revoked: February 8, 2010.

Reason: Failed to maintain valid bonds.

License Number: 11950N.

Name: Intermodal Logistics Systems, Inc.

Address: 200 West 140th Street, Unit 102, Los Angeles, CA 90061.

Date Revoked: February 19, 2010.

Reason: Failed to maintain a valid bond.

License Number: 15106N.

Name: World Express Consulting Corp.

Address: 147-48 175th Street, Suite 201, Jamaica, NY 11434.

Date Revoked: February 27, 2010.

Reason: Failed to maintain a valid bond.

License Number: 015530F.

Name: Distinction Cargo Management, Inc.

Address: Cargo Bldg. 9, Suite 255, JFK Int'l Airport, Jamaica, NY 11413.

Date Revoked: February 15, 2010.

Reason: Failed to maintain a valid bond.

License Number: 17305F.

Name: Distribution Support Systems, Inc.

Address: 6454 East Taft Road, East Syracuse, NY 13057.

Date Revoked: February 15, 2010.

Reason: Failed to maintain a valid bond.

License Number: 17569F.

Name: A.L.S. Cargo, Inc. dba Above & Beyond Cargo.

Address: 136 W. 73rd Street, Suite 3, New York, NY 10023.

Date Revoked: February 19, 2010.

Reason: Failed to maintain a valid bond.

License Number: 17830NF.

Name: Nationwide Forwarding, Inc.

Address: 20 Diann Drive, Montville, NJ 07045.

Date Revoked: February 15, 2010.

Reason: Failed to maintain valid bonds.

License Number: 018182NF.

Name: Sea-Line-Cargo, Inc.

Address: 202 Port Jersey Blvd., (Corner W/Colony Road), Jersey City, NJ 07305.

Date Revoked: February 27, 2010.

Reason: Failed to maintain valid bonds.

License Number: 018250F.

Name: Consolidation Shipping & Logistic, (USA) Inc.

Address: 219 Stuyvesant Avenue, Lynhurst, NJ 01071.

Date Revoked: February 13, 2010.

Reason: Failed to maintain a valid bond.

License Number: 018413NF.

Name: Chicago Int'l Forwarder Incorporated.

Address: 423 East Irving Park Road, Wood Dale, IL 60191.

Date Revoked: February 11, 2010.

Reason: Failed to maintain valid bonds.

License Number: 019258N.

Name: Fastgrow Logistics, Inc.

Address: 2211 S. Hacienda Blvd., Suite 216, Hacienda Heights, CA 91745.

Date Revoked: February 3, 2010.

Reason: Surrendered license voluntarily.

License Number: 019600F.

Name: Transphere, Inc.

Address: 5800 Commerce Avenue, Westland, MI 48185.

Date Revoked: February 5, 2010.

Reason: Failed to maintain a valid bond.

License Number: 019880NF.

Name: Transmax Logistics Corporation.

Address: 830 East Higgins Road, Suite 111-D, Schaumburg, IL 60173.

Date Revoked: February 11, 2010.

Reason: Failed to maintain valid bonds.

License Number: 019902F.

Name: Shipping Overseas Specialist Inc.

Address: 1121-A Industrial Parkway, Brick, NJ 08724.

Date Revoked: February 21, 2010.

Reason: Failed to maintain a valid bond.

License Number: 019908NF.

Name: International Trade Management Group, LLC dba Patriot Lines dba ITM Logistics.

Address: 611 Live Oak Drive, McLean, VA 22101.

Date Revoked: February 21, 2010.

Reason: Failed to maintain valid bonds.

License Number: 021640F.

Name: C. Steinweg (Houston), Inc.

Address: 1717 East Loop North (Turning Basin Drive) Suite 430, Houston, TX 77029-4025.

Date Revoked: February 26, 2010.

Reason: Surrendered license voluntarily.

License Number: 021649F.

Name: D.A.T. International, Inc.

Address: 11512 W. 183rd Street, Unit SE, Orland Park, IL 60467.

Date Revoked: February 27, 2010.

Reason: Failed to maintain a valid bond.

License Number: 021870F.

Name: AKM International, LLC.

Address: 301 Varick Street, Jersey City, NJ 07302.

Date Revoked: February 19, 2010.

Reason: Failed to maintain a valid bond.

License Number: 021925F.

Name: AAA International Shipping, LLC.

Address: 509 Largovista Drive, Oakland, FL 34787.

Date Revoked: February 19, 2010.

Reason: Failed to maintain a valid bond.

License Number: 021932N.

Name: Cargolinx, Inc.

Address: 6405 NW. 36th Street, Suite 107, Miami, FL 33166.

Date Revoked: February 27, 2010.

Reason: Failed to maintain a valid bond.

Sandra L. Kusumoto,
Director, Bureau of Certification and Licensing.

[FR Doc. 2010-5830 Filed 3-16-10; 8:45 am]

BILLING CODE 6730-01-P